RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: RUIA Claims Notification and Verification System; OMB 3220-0171.

Section 5(b) of the Railroad Unemployment Insurance Act (RUIA), requires that effective January 1, 1990, when a claim for benefits is filed with the Railroad Retirement Board (RRB), the RRB shall provide notice of the claim to the claimant's base year employer(s) to provide them an opportunity to submit information relevant to the claim before making an initial determination. If the RRB determines to pay benefits to the claimant under the RUIA, the RRB shall notify the base-year employer(s).

The purpose of the RUIA Claims Notification and Verification System is to provide two notices, pre-payment Form ID-4K, Prepayment Notice of Employees' Applications and Claims for Benefits Under the Railroad Unemployment Insurance Act, and post-payment Form ID-4E, Notice of RUIA Claim Determination. Prepayment Form ID-4K provides notice to a claimant's base-year employer(s), of each unemployment application and unemployment and sickness claim filed for benefits under the RUIA and provides the employer an opportunity to convey information relevant to the proper adjudication of the claim.

The railroad employer can elect to receive Form ID-4K by one of three options: A computer-generated paper notice, by Electronic Data Interchange (EDI), or online via the RRB's Employer Reporting System (ERS). The railroad employer can respond to the ID-4K notice by telephone, manually by mailing a completed ID-4K back to the RRB, or electronically via EDI or ERS.

Once the RRB determines to pay a claim post-payment Form Letter ID-4E, Notice of RUIA Claim Determination, is used to notify the base-year employer(s). This gives the employer a second opportunity to challenge the claim for benefits.

The ID-4E mainframe-generated paper notice, EDI, and internet versions are transmitted on a daily basis, generally on the same day that the claims are approved for payment. Railroad employers who are mailed Form ID-4E are instructed to write if they want a reconsideration of the RRB's determination to pay. Employers who receive the ID-4E electronically, may file a reconsideration request by completing the ID-4E by either EDI or ERS. Completion is voluntary.

Previous Requests for Comments: The RRB has already published the initial 60-day notice (82 FR 48729 on October 19, 2017) required by 44 U.S.C. 3506(c)(2). That request elicited no comments.

Information Collection Request (ICR)

Title: RUIA Claims Notification and Verification System.

OMB Control Number: 3220-0171.

Form(s) submitted: ID-4K, ID-4K (INTERNET), ID-4E, ID-4E (INTERNET).

Type of request: Revision of a currently approved collection of information.

Affected public: Private Sector; Businesses or other for-profits.

Abstract: Section 5(b) of the RUIA requires that effective January 1, 1990, when a claim for benefits is filed with the Railroad Retirement Board (RRB), the RRB shall provide notice of such claim to the claimant's base-year employer(s) and afford such employer(s) an opportunity to submit information relevant to the claim before making an initial determination on the claim. When the RRB determines to pay benefits to a claimant under the RUIA, the RRB shall provide notice of such determination to the claimant's base year employer.

Changes proposed: The RRB proposes to replace, for the ID-4E and ID-4K, using EDI with the use of secure File Transfer Protocol (FTP), which is the standard network protocol used for transferring files between a railroad employer and the RRB. The RRB proposes no changes to the other versions of the ID-4E or ID-4K.

The burden estimate for the ICR is as follows:

Form number | Annual responses | Time (minutes) | Burden (hours)
ID-4K (Manual) | 1,250 | 2 | 42
ID-4K (FTP) | 16,500 | (*) | 210
ID-4K (Internet) | 64,000 | 2 | 2,133
ID-4E (Manual) | 50 | 2 | 2
ID-4E (Internet) | 120 | 2 | 4
Total | 81,920 |  | 2,391
* The burden for the 5 participating employers who transmit FTP responses is calculated at 10 minutes each per day, 251 workdays a year or 210 total hours of burden.

2. Title and purpose of information collection: Request for internet Services, OMB 3220-0198.

The RRB uses a Personal Identification Number (PIN)/Password system that allows RRB customers to conduct business with the agency electronically. As part of the system, the RRB collects information needed to establish a unique PIN/Password that allows customer access to RRB internet-based services. The information collected is matched against records of the railroad employee that are maintained by the RRB. If the information is verified, the request is approved and the RRB mails a Password Request Code (PRC) to the requestor. If the information provided cannot be verified, the requestor is advised to contact the nearest field office of the RRB to resolve the discrepancy. Once a PRC is obtained from the RRB, the requestor can apply for a PIN/Password online. Once the PIN/Password has been established, the requestor has access to RRB internet-based services.

Completion is voluntary, however, the RRB will be unable to provide a PRC or allow a requestor to establish a PIN/Password (thereby denying system access), if the requests are not completed.

Previous Requests for Comments: The RRB has already published the initial 60-day notice (82 FR 48730 on October 19, 2017) required by 44 U.S.C. 3506(c)(2). That request elicited no comments.

Information Collection Request (ICR)

Title: Request for internet Services.

OMB Control Number: 3220-0198.

Form(s) submitted: N/A.

Type of request: Extension without change of a currently approved collection.

Affected public: Individuals or Households.

Abstract: The Railroad Retirement Board collects information needed to provide customers with the ability to request a Password Request Code and subsequently, to establish an individual PIN/Password, the initial steps in providing the option of conducting transactions with the RRB on a routine basis through the internet.

Changes proposed: The RRB proposes no changes to the PRC screens or the PIN/Password screens.

The burden estimate for the ICR is as follows:

Form No. | Annual responses | Time (minutes) | Burden (hours)
Request PRC | 14,000 | 5.0 | 1,167
Establish Pin/Password | 17,500 | 1.5 | 200
Total | 31,500 |  | 1,367

Additional Information or Comments: Copies of the forms and supporting documents can be obtained from Dana Hickman at (312) 751-4981 or Dana.Hickman@RRB.GOV.

Comments regarding the information collection should be addressed to Brian Foster, Railroad Retirement Board, 844 North Rush Street, Chicago, Illinois 60611-1275 or Brian.Foster@rrb.gov and to the OMB Desk Officer for the RRB, Fax: 202-395-6974, Email address: OIRA_Submission@omb.eop.gov.

Brian D. Foster,
Clearance Officer.

[FR Doc. 2017-28330 Filed 1-2-18; 8:45 am]

BILLING CODE 7905-01-P